DEPARTMENT OF TRANSPORTATION

Coast Guard

[USCG-2001-9763]

Towing Safety Advisory Committee; Charter Renewal

AGENCY: Coast Guard, DOT.

ACTION: Notice of charter renewal.

SUMMARY: The Secretary of Transportation has renewed the charter for the Towing Safety Advisory Committee (TSAC) for a period of two years from May 19, 2001, until May 19, 2003. TSAC is a federal advisory committee constituted under 5 U.S.C. App. 2. It advises the Secretary of Transportation on matters relating to shallow-draft inland and coastal waterway navigation and towing safety.

This notice and the charter are available on the Internet at http://dms.dot.gov. The charter is also available on TSAC's Internet web page at http://www.uscg.mil/hq/g-m/advisory/index.htm.

FOR FURTHER INFORMATION CONTACT: Mr. Gerald P. Miante, Assistant Executive Director, Commandant (G-MSO-1), U.S. Coast Guard, 2100 Second Street SW., Washington, DC 20593-0001, telephone 202-267-0229, fax 202-267-4570.

Dated: May 30, 2001.
Howard L. Hime,
Acting Director of Standards, Marine Safety and Environmental Protection.

[FR Doc. 01-14386 Filed 6-6-01; 8:45 am]

BILLING CODE 4910-15-U